DEPARTMENT OF COMMERCE

National Oceanic and Atmospheric Administration

RIN: 0648-XR14

New England Fishery Management Council; Public Meetings

AGENCY: National Marine Fisheries Service (NMFS), National Oceanic and Atmospheric Administration (NOAA), Commerce.

ACTION: Notice of public meetings.

SUMMARY: The New England Fishery Management Council's (Council) Scallop Advisory Panel and Scallop Oversight Committee will hold two meetings to consider actions affecting New England fisheries in the exclusive economic zone (EEZ).

DATES: The meetings will be held September 15 and 16, 2009. For specific dates and times, see SUPPLEMENTARY INFORMATION.

ADDRESSES: The meetings will be held at the Crowne Plaza Hotel, 801 Greenwich Avenue, Warwick, RI 02886; telephone: (401)732-6000; fax: (401)732-0261.

Council address: New England Fishery Management Council, 50 Water Street, Mill #2, Newburyport, MA 01950.

FOR FURTHER INFORMATION CONTACT: Paul J. Howard, Executive Director, New England Fishery Management Council; telephone: (978) 465-0492.

SUPPLEMENTARY INFORMATION: The advisory panel's and oversight committee meeting schedules and agendas are as follows:

1. Scallop Advisory Panel Meeting - Tuesday, September 15, 2009 beginning at 9 a.m.

The advisory panel will review Amendment 15 Draft Environmental Impact Statement (DEIS) alternatives and analyses. The primary goal of Scallop Amendment 15 is to consider alternatives to comply with new requirements of the reauthorized Magnuson-Stevens Conservation and Management Act, specifically implementing annual catch limits (ACLs). In addition, this action is considering alternatives to address excess capacity in the limited access scallop fishery with leasing and permit stacking alternatives. Lastly, this action is considering a number of alternatives to adjust several aspects of the overall scallop management program such as revising the overfishing definition, specific adjustments to the general category management program, a specific alternative to address EFH closures on Georges Bank, adjustments to the current scallop research set-aside program, and changing the scallop fishing year from March 1 to May 1. The panel will identify preferred alternatives for the Scallop Committee to consider. The advisory panel will also provide input on development of Framework 21. Framework 21 includes specifications for the 2010 fishing year including days-at-sea (DAS) allocations, access area schedule and measures for the general category scallop fishery. Other measures under consideration are possible consideration of a new scallop access area closure in the Great South Channel, minor modifications to the observer set-aside program, and compliance with the recent Loggerhead sea turtle biological opinion.

2. Scallop Oversight Committee Meeting - Wednesday, September 16, 2009 beginning at 9 a.m.

The Committee will review Amendment 15 DEIS alternatives and analyses. The Committee will consider input from the Advisory Panel when identifying preferred alternatives for the Council to consider later in September. The Council is scheduled to approve the final range of alternatives and draft analyses included in Amendment 15 DEIS for public hearings at the September Council meeting. The committee will also continue development of alternatives for Framework 21. Framework 21 includes specifications for the 2010 fishing year and other measures.

Although non-emergency issues not contained in this agenda may come before these groups for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Paul J. Howard (see ADDRESSES), at least 5 working days prior to the meeting date.

Authority: 16 U.S.C. 1801 et seq.

Dated: August 24, 2009.
Tracey L. Thompson,
Acting Director, Office of Sustainable Fisheries, National Marine Fisheries Service.

[FR Doc. E9-20686 Filed 8-26-09; 8:45 am]

BILLING CODE 3510-22-S